SECURITIES AND EXCHANGE COMMISSION

[File No. 500-1]

In the Matter of World Information Technology, Inc.; Order of Suspension of Trading

March 16, 2004.

It appears to the Securities and Exchange Commission that there is a lack of current and accurate information concerning the securities of World Information Technology, Inc. (the “Company”), trading under the stock symbol WRLT. Questions have been raised regarding: (i) The accuracy and completeness of information about the Company in filings with the Commission and in press releases concerning, among other things, the Company's financial condition, the Company's funding arrangements, and the resignations of the Company's former auditor and Chairman; and (ii) transactions in the Company's securities by certain individuals associated with the Company.

The Commission is of the opinion that the public interest and the protection of investors require a suspension of trading in the securities of the above listed company.

Therefore, it is ordered, pursuant to section 12(k) of the Securities Exchange Act of 1934, that trading in the above listed company is suspended for the period from 9:30 a.m. EST, March 16, 2004, through 11:59 p.m. EST, on March 29, 2004.

By the Commission.
Jonathan G. Katz,
Secretary.

[FR Doc. 04-6186 Filed 3-16-04; 11:58 am]

BILLING CODE 8010-01-P